DEPARTMENT OF TRANSPORTATION

Federal Aviation Administration

Public Notice for Waiver of Aeronautical Land-Use Assurance; Greater Kankakee Airport, Kankakee, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of a 16.5-acre portion of Parcel A and all of Parcel P (1.6 acres). Presently the land is vacant and used as open land for control of FAR Part 77 surfaces and compatible land use and is not needed for aeronautical use, as shown on the Airport Layout Plan. There are no impacts to the airport by allowing the airport to dispose of the property. Parcel A (36 acres) was acquired in 1962 under FAAP grant 9-11-040-05. Parcel P (1.6 acres) was acquired in 1964 under FAAP grant 5-12-0057-03. It is the intent of the Kankakee Valley Airport Authority (KVAA) to sell Parcel A-1 and Parcel P in fee to the County of Kankakee. This notice announces that the FAA intends to authorize the disposal of the subject airport property at Greater Kankakee Airport, Kankakee, IL. Approval does not constitute a commitment by the FAA to financially assist in disposal of the subject airport property nor a determination that all measures covered by the program are eligible for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose. The proposed land will be used by County of Kankakee for the construction of a new correctional facility. The construction of a new correctional facility will benefit the community. The proceeds from the sale of the land will be maintained in an interest bearing account and used for reimbursement of land transfer costs and future Airport Improvement Program eligible development.

DATES: Comments must be received on or before November 27, 2001.

FOR FURTHER INFORMATION CONTACT: Denis Rewerts, Program Manager, 2300 East Devon Avenue, Des Plaines, IL, 60018. Telephone Number 847-294-7195/FAX Number 847-294-7046. Documents reflecting this FAA action may be reviewed at this same location by appointment or at the Kankakee Valley Airport Authority, Greater Kankakee Airport, 813A E. 4000 South Road, Kankakee, Illinois 60901.

SUPPLEMENTARY INFORMATION: The following legal description of the proposed land sale is:

That part of the West Half of the Northwest Quarter of the Northeast Quarter of Section 20, Township 30 North, Range 13 West of the 2nd P.M. in Kankakee County, Illinois, lying South of the Southerly right-of-way line of I-57, containing approximately 18.1 acres, subject to rights-of-way for roads, drainage, and easements apparent or of record, and subject to survey.

This legal description does not represent a boundary survey and is based on a suggested land description provided by the KVAA.

Issued in Des Plaines, Illinois on October 25, 2001.
Philip M. Smithmeyer,
Manager, Chicago Airports District Office FAA, Great Lakes Region.

[FR Doc. 01-29483 Filed 11-26-01; 8:45 am]

BILLING CODE 4910-13-M